DEPARTMENT OF HEALTH AND HUMAN SERVICES

National Institutes of Health

National Institute of Biomedical Imaging and Bioengineering; Notice of Meetings

Pursuant to section 10(d) of the Federal Advisory Committee Act, as amended (5 U.S.C. Appendix 2), notice is hereby given of meetings of the National Advisory Council for Biomedical Imaging and Biogengineering.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Advisory Council for Biomedical Imaging and Bioengineering.

Date: May 25-26, 2005.

Open: May 26, 2005, 8 a.m. to 11:30 a.m.

Agenda: Presentation by the Institute Director and Executive Secretary.

Place: National Institutes of Health, Natcher Building, 45 Center Drive, Bethesda, MD 20892.

Closed: May 26, 2005, 11:30 a.m. to 5 p.m.

Agenda: To review and evaluate grant applications.

Place: National Institutes of Health, Natcher Building, 45 Center Drive, Bethesda, MD 20892.

Contact Person: Arlene Y. Chiu, PhD, Associate Director, Office of Research Administration, Office of Science Administration, National Institute of Biomedical Imaging and Bioengineering, 6707 Democracy Plaza, Suite 200, MSC-5477, Bethesda, MD 20892-5477. 301-435-9218. chiua@mail.nih.gov.

Name of Committee: National Advisory Council for Biomedical Imaging and Bioengineering Strategic Plan Development Subcommittee.

Date: May 25, 2005.

Time: 3:30 p.m. to 4:30 p.m.

Agenda: Discussion of implementation of strategic plan.

Place: National Institutes of Health, Natcher Building, 45 Center Drive, Bethesda, MD 20892.

Contact Person: Arlene Y. Chiu, PhD, Associate Director, Office of Research Administration, Office of Science Administration, National Institute of Biomedical Imaging and Bioengineering, 6707 Democracy Plaza, Suite 200, MSC-5477, Bethesda, MD 20892-5477. 301-435-9218. chiua@mail.nih.gov.

Name of Committee: National Advisory Council for Biomedical Imaging and Bioengineering Training and Career Development Subcommittee.

Date: May 25, 2005.

Time: 4:30 p.m. to 5:30 p.m.

Agenda: Discussion of implementation of Training Career Development.

Place: National Institutes of Health, Natcher Building, 45 Center Drive, Bethesda, MD 20892.

Contact Person: Arlene Y. Chiu, PhD, Associate Director, Office of Research Administration, Office of Science Administration, National Institute of Biomedical Imaging and Bioengineering, 6707 Democracy Plaza, Suite 200, MSC-5477, Bethesda, MD 20892-5477. 301-435-9218. chiua@mail.nih.gov.

Any interested person may file written comments with the committee by forwarding the statement to the Contact Person listed on this notice. The statement should include th4e name, address, telephone number and when applicable, the business or professional affiliation of the interested person.

In the interest of security, NIH has instituted stringent procedures for entrance into the building by non-government employees. Persons without a government I.D. will need to show a photo I.D. and sign-in at the security desk upon entering the building.

Information is also available on the Institute's/Center's Home page: http://www.nibib 1.nih.gov/about/NACBIB/NACBIB.htm, where an agenda and any additional information for the meeting will be posted when available.

Dated: April 19, 2005.
LaVerne Y. Stringfield,
Director, Office of Federal Advisory Committee Policy.

[FR Doc. 05-8421 Filed 4-26-05; 8:45 am]

BILLING CODE 4140-01-M